DEPARTMENT OF HOMELAND SECURITY

Coast Guard

33 CFR Part 117

[Docket No. USCG-2017-0147]

Drawbridge Operation Regulation; Yellow Mill Channel, Bridgeport, CT

AGENCY: Coast Guard, DHS.

ACTION: Notice of deviation from drawbridge regulation.

SUMMARY: The Coast Guard has issued a temporary deviation from the operating schedule that governs the Stratford Avenue Bridge across Yellow Mill Channel, mile 0.3 at Bridgeport, Connecticut. This deviation is necessary to complete electrical repairs, install new rebar and concrete, repair/replace structural steel, and retrofit navigation lighting. This deviation allows the bridge to remain fully closed for two weeks followed by a two-week period during which the bridge will open for vessels upon 72 hours of advance notice.

DATES: This deviation is effective from 12:01 a.m. on April 1, 2017 to 12:01 a.m. on May 1, 2017.

ADDRESSES: The docket for this deviation, USCG-2017-0147, is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The Connecticut Department of Transportation, the owner of the bridge, requested a temporary deviation to facilitate rehabilitation of the bridge and bascule leaves. The Stratford Avenue Bridge, across Yellow Mill Channel, mile 0.3 at Bridgeport, Connecticut is a double-leaf bascule bridge offering mariners a vertical clearance of 11 feet at mean high water and 17 feet at mean low water in the closed position. The existing drawbridge operating regulations are listed at 33 CFR 117.225.

The bulk of traffic utilizing the waterway is recreational in nature, requiring only occasional openings of the bridge in order to proceed.

Under this temporary deviation, the Stratford Avenue Bridge shall remain in the closed position from April 1, 2017 to April 15, 2017. Between April 15, 2017 and May 1, 2017, the span will open for the passage of vessels requiring an opening provided 72 hours of advance notice is furnished to the owner of the bridge.

Vessels that can pass under the bridge without an opening may do so at all times. The bridge will not be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 31, 2017.
C.J. Bisignano,
Supervisory Bridge Management Specialist, First Coast Guard District.

[FR Doc. 2017-06818 Filed 4-5-17; 8:45 am]

BILLING CODE 9110-04-P